DEPARTMENT OF AGRICULTURE

Office of the Secretary

7 CFR Part 57

Inspection of Eggs (Egg Products Inspection Act)

CFR Correction

In Title 7 of the Code of Federal Regulations, Parts 53 to 209, revised as of January 1, 2015, make the following corrections:

1. On page 74, in § 57.720, in paragraph (a)(4), remove the phrase “Products Products” and add the term “Products Processing” in its place, and

2. On page 75, in § 57.900, in paragraph (a), reinstate the last sentence to read “The importation of any egg in violation of the regulations of this part is prohibited.”

[FR Doc. 2015-32121 Filed 12-21-15; 8:45 am]

BILLING CODE 1505-01-D